DEPARTMENT OF HOUSING AND URBAN DEVELOPMENT

[Docket No. FR-4912-N-04]

Notice of Availability of a Final Environmental Impact Statement for the Greenbridge Redevelopment Master Plan Project, King County, WA

AGENCY: Office of the Assistant Secretary for Community Planning and Development, HUD.

ACTION: Notice.

SUMMARY: The Department of Housing and Urban Development (HUD) gives this notice to the public, agencies, and Indian tribes on the availability for public review of the Final Environmental Impact Statement (EIS) for the redevelopment of Park Lake Homes public housing community (Greenbridge) in King County, WA. HUD gives this notice on behalf of the King County Department of Development and Environmental Services (DDES) acting as the Responsible Entity for compliance with the National Environmental Policy Act (NEPA) in accordance with 24 CFR 58.4. Also HUD gives this notice on behalf of the DDES and King County Housing Authority (KCHA), jointly acting under their authority as lead agencies in accordance with the State Environmental Policy Act (SEPA) (RCW 43.21). The NEPA/SEPA Final EIS will be available for a 30-day period beginning today. A NEPA Record of Decision (ROD) will be issued after the 30-day availability period. This notice is given in accordance with the Council on Environmental Quality regulations at 40 CFR parts 1500-1508. The King County Housing Authority's SEPA regulations (KCHA Resolution 3185) provide a 21-day appeal period. The NEPA review period and SEPA appeal period will run concurrently from the issuance date of the Final EIS.

DATES: Comments must be received 30 days from the date of publication of this notice in the Federal Register. Comments are to be submitted to Greg Borba at the below address or Greg.Borba@metrokc.gov.

ADDRESSES: The Final EIS is available on the Internet and can be viewed or downloaded at http://www.metrokc.gov/ddes/lusd/gb. Hard copies of the Final EIS may be purchased for the cost of reproduction. Copies are available at the King Housing Authority's office (600 Andover Park, W., Tukwila). Please contact Oksana Winstead at the King County Housing Authority (206.574.1197) to make arrangements to obtain a copy. The Final EIS can also be reviewed at the King County Housing Authority's office (600 Andover Park, W.) Monday through Friday 8 a.m. to 4:30 p.m.; at the Park Lake Homes HOPE VI Office (206) 574-1160); and at the following public libraries:

• Boulevard Park Library (12015 Roseberg Avenue South, Boulevard Park community);

• Burien Public Library (14700 Sixth, SW., City of Burien);

• Foster Public Library (7614 S. 126th, Skyway community);

• White Center Public Library (11220-16th, SW., White Center community);

• King County Library System, Documents Branch (690 Newport Way, NW., City of Issaquah);

• Seattle Public Library Central Library (800 Pike Street, City of Seattle);

• Seattle Public Library Central Library, Documents Branch (800 Pike Street, City of Seattle);

• Seattle Public Library Southwest Branch (9010-35th Avenue, SW., Westwood community);

• Seattle Public Library West Seattle Branch (2306-42nd Avenue, SW., West Seattle community).

FOR FURTHER INFORMATION CONTACT: Greg Borba, Planning Supervisor, King County Department of Development and Environmental Services, 900 Oaksdale Avenue, SW., Renton, WA 98055-1219, Phone (206) 296-7118, Fax (206) 296-7051.

SUPPLEMENTARY INFORMATION: The King County DDES, acting under authority of Section 104(g) of the Housing and Community Development Act of 1974 (42 U.S.C. 5304(g)), Section 26 of the United States Housing Act of 1937 (42 U.S.C. 1437x), and HUD's regulations at 24 CFR part 58, in cooperation with other interested agencies, has prepared a Final EIS to analyze potential impacts of redevelopment of the Park Lake Homes public housing community (Greenbridge Redevelopment Project-Proposed Master Plan). The Final EIS is a joint NEPA and Washington SEPA document intended to satisfy requirements of federal and state environmental statutes. HUD has allowed the assumption of its NEPA authority and NEPA lead agency responsibility by King County (DDES) as the Responsible Entity in cooperation with the Recipient, KCHA, as the SEPA lead agency.

Park Lake Homes is KCHA's oldest and largest public housing development. Built in 1942 to serve as temporary housing for World War II defense workers, structures have been renovated several times. The KCHA received a HOPE VI grant award from HUD in November of 2001 to initiate planning for the revitalization of this public housing development.

The Proposed Master Plan includes redevelopment of the existing approximately 94-acre project site located in the White Center area of unincorporated King County, Washington. The proposed redevelopment is consistent with requirements for a mixed-use, mixed-income housing project as described in the HOPE VI grant. The project site currently contains 569 residential units, a Community Center, a maintenance shop, a Head Start School, and a secondary building containing a food bank and administrative offices. The residential units are in primarily single story duplex structures.

The plan is to replace all existing low-income housing either within the site or elsewhere in King County through construction of public housing units on-site and project-based Section 8 vouchers in existing or new housing complexes. Existing residents would be relocated and assisted with benefits according to the provisions of the Uniform Relocation Assistance and Real Property Acquisition Policies Act. Where possible, displaced residents in good standing would be allowed to return to the public housing units once redevelopment is complete.

Most of the current buildings on the site would be demolished in phases, unless renovation for community services use is feasible. The existing Jim Wiley Community Center building will likely be renovated. In addition, much of the existing infrastructure would be demolished, abandoned, or replaced, also in phases. The project site would be redeveloped to provide approximately 900 to 1,100 dwelling units of rental and for-sale housing, in attached and detached forms, to meet a wide range of needs. Rental housing could include public housing units (attached townhouses, over/under flats, over/under townhouses, cottages) and workforce housing (attached townhouses, over/under flats, over/under townhouses, and apartments). For-sale housing could include single family detached cottages, attached townhouses, condominium flats and condominium townhouses.

An estimated 2,235,000 square feet of net buildable area is associated with the Proposed Master Plan. Non-residential development would include an estimated 80,000-100,000 square feet of community-oriented uses. Such uses may include: A branch library, renovated community center, youth and family facilities, Head Start and child care facility, Sheriff's office, food bank, career development center and meeting/gathering space. Approximately 22,300 square feet of neighborhood-scale retail, to meet the everyday needs of residents, is also proposed. A new elementary school (White Center Heights Elementary) is presently under construction; this is an independent proposal for purposes of land use permitting and SEPA review (although the site is included within the Greenbridge Preliminary Plat). A SEPA Determination of Nonsignificance was published on September 18th and 25th, 2002, for the new elementary school.

No significant unavoidable adverse impacts are anticipated for all elements of the environment analyzed in the Final EIS. The Proposed Master Plan would generate impacts to various elements of the environment that can be mitigated so as to not be significant. Existing traffic noise levels on SW. Roxbury Street, which affect the Greenbridge site, exceed levels generally considered desirable by HUD guidelines.

The State Historic Preservation Officer (SHPO) concurs with the Heritage Resources Report (Appendix I of the Draft EIS) finding that the project site is not eligible for the National Register of Historic Places (see Section IV and Appendix 2 of the Final EIS). The SHPO response letter also states that further coordination with the Office of Archaeology and Historic Preservation is not necessary unless additional information becomes available or any archaeological resources are uncovered during construction.

The U.S. Fish and Wildlife Service and the National Marine Fisheries Service (NOAA Fisheries) concur with the BE determination of “may affect, but not likely to adversely affect” for Puget Sound chinook salmon (Oncorhynchus tshawytscha), which is listed as ESA “threatened” species (see Section IV and Appendix 2 of the Final EIS). The NOAA response letter also states that because the habitat requirements for the Magnuson Stevens Fisheries Conservation Act (MSA) managed species are similar to that of Endangered Species Act (ESA) “listed” species, and because the conservation measures that the DDES included as part of the Proposed Action to address ESA concerns are also adequate to avoid, minimize or otherwise offset potential adverse effects to designated Essential Fish Habitat, conservation recommendations pursuant to MSA are not necessary.

Noise control measures (site planning, noise attenuation, or construction techniques) will be required and implemented to reduce noise from traffic on SW. Roxbury Street so that day-night sound levels at outdoor use locations and onsite residences would meet HUD requirements for attenuation, and/or would satisfy HUD's criteria for exceptions (24 CFR 51.105).

Some consider the HOPE VI program and implementing projects to be controversial. Similarly, land use changes, socioeconomic issues, and housing displacement/relocation associated with redevelopment may also be viewed as controversial. Relevant land use, socioeconomic, and housing issues are discussed in Section 4.9 of the Draft EIS and are summarized in Section I of the Final EIS.

Issuance of the Final EIS will trigger a 30-day review period, after which the ROD will be issued. Issuance of the ROD will conclude a planning and environmental review process that started with the Notice of Intent (NOI) to prepare an EIS, dated January 24, 2003. A 30-day scoping period was initiated subsequent to the NOI and a public scoping meeting was held on February 26, 2003. The Draft EIS was made available on November 21, 2003 for a 45-day comment period. A public comment meeting to take oral comments on the Draft EIS was held on December 17, 2003.

Questions may be directed to the individual named above under the heading FOR FURTHER INFORMATION CONTACT.

Dated: April 26, 2004.
Roy A. Bernardi,
Assistant Secretary for Community Planning and Development.

[FR Doc. 04-9776 Filed 4-30-04; 8:45 am]

BILLING CODE 4210-29-P